DEPARTMENT OF TRANSPORTATION

Surface Transportation Board

[STB Docket No. MC-F-20988]

Holland America Line—Westours, Inc.—Control—Westours Motor Coaches, Inc., Evergreen Trails, Inc., Westmark Hotels of Canada Ltd., and Horizon Coach Lines Ltd.

AGENCY: Surface Transportation Board.

ACTION: Notice tentatively approving finance transaction.

SUMMARY: Holland America Line—Westours, Inc. (HAL), a noncarrier holding company that controls three motor passenger carrier subsidiaries, Westours Motor Coaches, Inc. (WMC), Evergreen Trails, Inc. (Evergreen), and Westmark Hotels of Canada Ltd. (Westmark),¹ has filed an application under 49 U.S.C. 14303 for acquisition of control by HAL, through its Westmark subsidiary, of another Federally regulated passenger carrier, Horizon Coach Lines Ltd. (Horizon).² Persons wishing to oppose the application must follow the rules under 49 CFR 1182.5 and 1182.8. The Board has tentatively approved the transaction, as well as the acquisition of control of Horizon by Westmark, and, if no opposing comments are timely filed, this notice will be the final Board action.

¹ HAL's control of the 3 carriers was approved by the Board in Holland America Line—Westours, Inc.—Control—Westmark Hotels of Canada Ltd., STB Docket No. MC-F-20985 (STB served Oct. 10, 2001).

² Horizon holds operating authority in MC-144339.

DATES: Comments are due April 8, 2002. Applicant may reply by April 23, 2002. If no comments are received by April 8, 2002, this notice is effective on that date.

ADDRESSES: Send an original and 10 copies of any comments referring to STB Docket No. MC-F-20988 to: Surface Transportation Board, Office of the Secretary, Case Control Unit, 1925 K Street, NW., Washington, DC 20423-0001. In addition, send one copy of comments to applicant's representative: Jeremy Kahn, Kahn & Kahn, 1730 Rhode Island Ave., NW., Suite 810, Washington, DC 20036.

FOR FURTHER INFORMATION CONTACT: John Sado, (202) 565-1642. [TDD for the hearing impaired: 1-800-877-8339].

SUPPLEMENTARY INFORMATION: HAL is a noncarrier that currently controls three regulated passenger carrier subsidiaries, WMC (Docket No. MC-118832), Evergreen (Docket No. MC-107638), and Westmark (Docket No. MC-405618). Under the proposed transaction, HAL is seeking to acquire control, through its Westmark subsidiary, of another regulated passenger carrier, Horizon.³ Westmark is acquiring the stock of Horizon.⁴ HAL states that it focuses its passenger carrier services in the Pacific Northwest, mainly in the states of Washington and Alaska and in adjacent Canadian areas, including the province of British Columbia and the Yukon Territory. Horizon's operations are mainly concentrated in Canada.

³ The Board recently granted interim approval to HAL to acquire control, through its Westmark subsidiary, of Horizon. Holland America Line—Westours, Inc.—Control—Westours Coaches, Inc., Evergreen Trails, Inc., Westmark Hotels of Canada Ltd., and Horizon Coach Lines, Ltd., STB Docket No. MC-F-20988 TA (STB served Feb. 1, 2002).

⁴ Accordingly, Westmark will also control Horizon. Although applicant did not specifically request such relief, we are tentatively approving the acquisition of control of Horizon by Westmark.

HAL has submitted information, as required by 49 CFR 1182.2(a)(7), to demonstrate that the proposed acquisition of control is consistent with the public interest under 49 U.S.C. 14303(b). HAL states that the proposed transaction will have no impact on the adequacy of transportation services available to the public, that the operations of the carriers involved will remain unchanged, that there are no fixed charges associated with the proposed transaction, and that no carrier employees will be adversely affected by the transaction. In addition, HAL has submitted all of the other statements and certifications required by 49 CFR 1182.2. Additional information, including a copy of the application, may be obtained from the applicant's representative.

Under 49 U.S.C. 14303, we must approve and authorize a transaction we find consistent with the public interest, taking into consideration at least: (1) the effect of the transaction on the adequacy of transportation to the public; (2) the total fixed charges that result; and (3) the interest of affected carrier employees.

On the basis of the application, we find that the proposed acquisition of control is consistent with the public interest and should be authorized. If any opposing comments are timely filed, this finding will be deemed vacated and, unless a final decision can be made on the record as developed, a procedural schedule will be adopted to reconsider the application. See 49 CFR 1182.6(c). If no opposing comments are filed by the expiration of the comment period, this decision will take effect automatically and will be the final Board action.

Board decisions and notices are available on our website at www.stb.dot.gov.

This action will not significantly affect either the quality of the human environment or the conservation of energy resources.

It is ordered:

1. The proposed acquisition of control of Horizon by HAL and the acquisition of control of Horizon by Westmark are approved and authorized, subject to the filing of opposing comments.

2. If timely opposing comments are filed, the findings made in this decision will be deemed as having been vacated.

3. This decision will be effective on April 8, 2002, unless timely opposing comments are filed.

4. A copy of this notice will be served on: (1) The U.S. Department of Transportation, Federal Motor Carrier Safety Administration, 400 7th Street, SW., Room 8214, Washington, DC 20590; (2) the U.S. Department of Justice, Antitrust Division, 10th Street & Pennsylvania Avenue, NW., Washington, DC 20530; and (3) the U.S. Department of Transportation, Office of the General Counsel, 400 7th Street, SW., Washington, DC 20590.

Decided: February 14, 2002.
By the Board, Chairman Morgan and Vice Chairman Burkes.
Vernon A. Williams,
Secretary.

[FR Doc. 02-4139 Filed 2-21-02; 8:45 am]

BILLING CODE 4915-00-P